DEPARTMENT OF HEALTH AND HUMAN SERVICES

Centers for Disease Control and Prevention

[60-Day-14-0210]

Proposed Data Collections Submitted for Public Comment and Recommendations; List of Ingredients Added to Tobacco in the Manufacture of Cigarette Products; Withdrawn

AGENCY: Centers for Disease Control and Prevention (CDC), Office on Smoking and Health, National Center for Chronic Disease Prevention and Health Promotion (NCCDPHP), Department of Health and Human Services (HHS).

ACTION: Notice Withdrawal. In compliance with the requirement of Section 3506(c)(2)(A) of the Paperwork Reduction Act of 1995 FR Doc. 2013-26469 Filed 11-4-13; 8:45am.

SUMMARY: The Centers for Disease Control and Prevention requests withdrawal from publication the 60-Day Federal Register Notice (FRN) 14 0210 concerning the List of Ingredients Added to Tobacco in the Manufacture of Cigarette Products (FR Doc. 2013-26469), which was submitted on October 30, 2013 for public inspection in the Federal Register.

The purpose behind this notice withdrawal request is that an original 60-day FRN was previously published on October 31, 2013 (Document Number—2013-25799). A duplicate 60-day FRN was inadvertently published on November 5, 2013. Please disregard the duplicate FRN.

DATES: The duplicate FRN published on [11/5/13] at [Vol. 78, No. 214 Page 66363] is withdrawn as of [11/12/13].

FOR FURTHER INFORMATION CONTACT: (404) 639-7570 or send comments to CDC LeRoy Richardson, 1600 Clifton Road, MS D-74, Atlanta, GA 30333 or send an email to omb@cdc.gov.

SUPPLEMENTARY INFORMATION: N/A.

Leroy A. Richardson,
Chief, Information Collection Review Office, Office of Science Integrity, Office of the Associate Director for Science, Office of the Director, Centers for Disease Control and Prevention.

[FR Doc. 2013-27403 Filed 11-14-13; 8:45 am]

BILLING CODE 4163-18-P